DEPARTMENT OF THE INTERIOR

National Park Service

General Management Plan, Final Environmental Impact Statement, Navajo National Monument, AZ

AGENCY: National Park Service, Department of the Interior.

ACTION: Notice of availability of the Final Environmental Impact Statement for the General Management Plan, Navajo National Monument.

SUMMARY: Pursuant to National Environmental Policy Act of 1969, 42 U.S.C. 4332(C), the National Park Service announces the availability of a Final Environmental Impact Statement for the General Management Plan, Navajo National Monument, Arizona.

DATES: The National Park Service will execute a Record of Decision (ROD) no sooner than 30 days following publication by the Environmental Protection Agency of the notice of availability of the Final Environmental Impact Statement.

ADDRESSES: Information will be available for public review in the office of the Superintendent, Navajo National Monument, HC 71, Box 3, Tonalea, Arizona 86044-9704, and at the following locations: On the Internet at: http://www.nps.gov/planning/nava. Planning and Environmental Quality, Intermountain Support Office—Denver, National Park Service, 12795 W. Alameda Parkway, Lakewood, CO 80228, Telephone: (303) 987-6671.

FOR FURTHER INFORMATION CONTACT: Contact Roger Moder, Superintendent, Navajo National Monument at the above address and telephone number.

Dated: August 8, 2003.
Michael D. Snyder,
Acting Director, Intermountain Region, National Park Service.

[FR Doc. 03-26579 Filed 10-21-03; 8:45 am]

BILLING CODE 4312-EH-P